ENVIRONMENTAL PROTECTION AGENCY

40 CFR Part 180

[EPA-HQ-OPP-2012-0001; FRL-9375-4]

Notice of Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before February 15, 2013.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person, with telephone number and email address, is listed at the end of each pesticide petition summary. You may also reach each contact person by mail at Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), (21 U.S.C. 346a), requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 2E8068. (EPA-HQ-OPP-2012-0710). BASF Corporation, 26 Davis Drive, P.O. Box 13528, Research Triangle Park, NC 27709-3528, requests to establish tolerances in 40 CFR part 180 for residues of the fungicide boscalid (BAS 510F); [3-pyridinecarboxamide, 2-chloro-N-(4′-chloro(1,1′-biphenyl)-2-yl)-], in or on artichoke, globe at 6.0 ppm; berry, low growing, subgroup 13-07G at 4.5 ppm; bushberry, subgroup 13-07B at 13 ppm; caneberry, subgroup 13-07A at 6.0 ppm; endive, Belgium at 5.0 ppm; fruit, citrus, group 10-10 at 1.6 ppm; fruit, pome, group 11-10 at 3.0 ppm; fruit, small, vine climbing, except fuzzy kiwifruit, subgroup 13-07F, at 3.5 ppm; oilseed, group 20 at 3.5 ppm; persimmon at 7.0 ppm; turnip, greens at 18.0 ppm; vegetable, bulb group 3-07 at 3.0 ppm; vegetable, fruiting, group 8-10 at 1.2 ppm; vegetable, root subgroup 1B, except sugarbeet, at 1.0 ppm. In plants, the parent residue is extracted using an aqueous organic solvent mixture followed by liquid/liquid (L/L) partitioning and a column clean up. Quantitation is by gas chromatography/mass spectrometry (GC/MS). In livestock, the residues are extracted with methanol. The extract is treated with enzymes in order to release the conjugated glucuronic acid metabolite. The residues are then isolated by L/L partition followed by column chromatography. The hydroxylated metabolite is acetylated followed by a column clean-up. The parent and acetylated metabolite are quantitated by GC with electron capture detection (ECD). Contact: Andrew Ertman, (703) 308-9367, email address: ertman.andrew@epa.gov.

2. PP 2E8069. (EPA-HQ-OPP-2012-0549). Interregional Research Project Number 4 (IR-4), 500 College Road East, Suite 201W, Princeton, NJ 08540, requests to establish tolerances in 40 CFR part 180 for residues of the fungicide pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound, in or on artichoke, globe at 3.0 parts per million (ppm); endive, Belgium at 3.0 ppm; and persimmon at 3.0 ppm. In plants, the method of analysis is aqueous organic solvent extraction, column clean up and quantitation by liquid chromatography/tandem mass spectrometry (LC/MS/MS). In animals, the method of analysis involves base hydrolysis, organic extraction, column clean up and quantitation by LC/MS/MS or derivatization (methylation) followed by quantitation by GC/MS. Contact: Andrew Ertman, (703) 308-9367, email address: ertman.andrew@epa.gov.

3. PP 2E8114. (EPA-HQ-OPP-2012-0903). Dow AgroSciences, LLC, 9330 Zionsville Road, Indianapolis, IN 46268, requests to establish a tolerance in 40 CFR part 180 for residues of the fungicide tricyclazole, 5-methyl-1,2,4-triazolo[3,4-b] benzothiazole, including its metabolites and degradates, in or on rice at 3.0 ppm. There are adequate validated methods that exist for the quantification of tricyclazole (TCA) and tricyclazole alcohol metabolite (TCA-OH) residues in rice. There is also successful method validation available for multi-residue DFG method S19 for determination of tricyclazole in rice by GS/MS detection. Contact: Erik Kraft, (703) 308-9358, email address: kraft.erik@epa.gov.

4. PP 2E8117. (EPA-HQ-OPP-2012-0911). Interregional Research Project Number 4 (IR-4), 500 College Road East, Suite 201W, Princeton, NJ 08540, requests to establish a tolerance in 40 CFR part 180 for residues of the fungicide quinoxyfen, 5,7-dichloro-4-(4-fluorophenoxy)quinoline, in or on vegetable, fruiting, group 8-10 at 1.7 ppm; fruit, small vine climbing, except fuzzy kiwifruit, subgroup 13-07F at 0.60 ppm; and berry, low growing, subgroup 13-07G at 0.90 ppm. A practical analytical method is available to monitor and enforce the tolerances of quinoxyfen residues in crops. The analytical method uses a capillary GC and MS detection (GC-MSD). The method is adequate for collecting data and enforcing tolerances for quinoxyfen residues in/on the subject crops. Contact: Sidney Jackson, (703) 305-7610, email address: jackson.sidney@epa.gov.

5. PP 2E8118. (EPA-HQ-OPP-2012-0912). Interregional Research Project Number 4 (IR-4), 500 College Road East, Suite 201 W, Princeton, NJ 08540, requests to establish tolerances in 40 CFR 180.544 for residues of the insecticide methoxyfenozide, (3-methoxy-2-methylbenzoic acid 2-(3,5-dimethylbenzoyl)-2-(1,1-dimethylethyl) hydrazide) including its metabolites and degradates, in or on the raw agricultural commodities under paragraph (a) in or on herb subgroup 19A, except chive at 400 ppm; date at 7 ppm; caneberry subgroup 13-07A at 6 ppm; sorghum, grain, forage at 9 ppm; sorghum, grain, stover at 15 ppm; sorghum, grain, grain at 4 ppm; sorghum, sweet, forage at 9 ppm; sorghum, sweet, stover at 15 ppm; sorghum, sweet, grain at 4 ppm; sorghum, sweet, stalk at 9 ppm; grain, aspirated grain fractions at 80 ppm; pea and bean, dried shelled, except soybean, subgroup 6C, except pea, blackeyed, seed and pea, southern, seed at 0.5 ppm; fruit, small, vine climbing, except fuzzy kiwifruit, subgroup 13-07F at 1 ppm; berry, low growing, except cranberry, subgroup 13-07G at 1.5 ppm; fruit, pome, group 11-10 at 1.5 ppm; vegetable, fruiting, group 8-10 at 2 ppm; sugar apple at 0.6 ppm; cherimoya at 0.6 ppm; atemoya at 0.6 ppm; custard apple at 0.6 ppm; ilama at 0.6 ppm; soursop at 0.6 ppm; and biriba at 0.6 ppm. Additionally, the petition requested to establish tolerances in 40 CFR 180.544, under paragraph (d)(2) for indirect or inadvertent residues of methoxyfenozide in or on rapeseed subgroup 20A at 1.0 ppm and sunflower subgroup 20B at 1.0 ppm. Per a recent 2012 decision on tolerances, EPA stated adequate single methods are available for tolerance enforcement in primary crops and animal commodities. Analytical methodology for the magnitude of residue studies was based on Dow AgroSciences method GRM 02.25 “Determination of Residues of Methoxyfenozide in High Moisture Crops by Liquid Chromatography with Tandem Mass Spectrometry Detection”. Contact: Laura Nollen, (703) 305-7390, email address: nollen.laura@epa.gov.

6. PP 2F8058. (EPA-HQ-OPP-2012-0924). BASF Corporation, 26 Davis Drive, P.O. Box 13528, Research Triangle Park, NC 27709-3528, requests to establish tolerances in 40 CFR part 180 for residues of the fungicide fluxapyroxad, (BAS 700 F); 1 H-Pyrazole-4-carboxamide,3-(difluoromethyl)-1-methyl-N-(3′,4′,5′-trifluoro[1,1′-biphenyl]-2-yl)-, its metabolites, and degradates, in or on nongrass animal feeds, group 18 at 0.5 ppm; and mint at 0.05 ppm. Independently validated analytical methods have been submitted for analyzing residues of parent BAS 700 F (fluxapyroxad) plus metabolites M700F008, M700F048 and M700F002 with appropriate sensitivity in all the crop and processed commodities for root and tuber vegetables (subgroups 1A, 1C, D), sugar beet tops, legume vegetables including soybean (group 6), foliage of legume vegetables (group 7), fruiting vegetables (group 8), pome fruits (group 11), stone fruits (group 12), cereal grains (group 15), forage, fodder and straw of cereal grains (group 16), cotton, canola (rapeseed), sunflower and peanut and in animal meat, fat, liver and kidney matrices, poultry meat, fat, liver and skin, milk, cream and eggs for which tolerances have been established. Contact: Olga Odiott, (703) 308-9369, email address: odiott.olga@epa.gov.

7. PP 2F8077. (EPA-HQ-OPP-2012-0829). Monsanto Company, 1300 I Street NW., Suite 450 East, Washington, DC 20005, (a member of the Acetochlor Registration Partnership, (ARP)), requests to establish tolerances in 40 CFR 180.470(a) for residues of the herbicide acetochlor (2-chloro-2′-methyl-6′-ethyl-N-ethoxymethyl acetanilide) and its metabolites containing either the 2-ethyl-6-methylaniline (EMA) or the 2-(1-hydroxyethyl)-6-methylaniline (HEMA) moiety, to be expressed as acetochlor equivalents, resulting from applications to soil or growing crops, in or on beet, sugar, dried pulp at 0.5 ppm; beet, sugar, molasses at 1.3 ppm; beet, sugar, roots at 0.3 ppm; beet, sugar, tops at 0.8 ppm; peanut at 0.2 ppm; peanut, hay at 6.0 ppm; and peanut, meal at 0.5 ppm. An adequate enforcement method for residues of acetochlor in crops has been approved. Acetochlor and its metabolites are hydrolyzed to either EMA or HEMA, which are determined by high pressure liquid chromatography-oxidative coulometric electrochemical detector (HPLC-OCED) and expressed as acetochlor equivalents. Contact: Hope Johnson, (703) 305-5410, email address: johnson.hope@epa.gov.

8. PP 2F8099. (EPA-HQ-OPP-2012-0941). Valent U.S.A. Corporation, 1600 Riviera Avenue, Suite 200, Walnut Creek, CA 94596, requests to establish tolerances in 40 CFR 180.627 for inadvertent residues of the fungicide fluopicolide, 2,6-dichloro-N-[3-chloro-5-(trifluoromethyl)-2-pyridylmethyl]-benzamide, as an indicator of combined residues of fluopicolide and its metabolite, 2,6-dichlorobenzamide (BAM), in or on corn, field, forage at 0.09 ppm; corn, field, grain at 0.01 ppm; and corn, field, stover at 0.3 ppm, resulting from the proposed use as a fungicide. Additional data included in the petition, to assess potential dietary exposure from P1x and PCA, shows no inadvertent residues of P1x or PCA in the corn grain. Practical analytical methods for detecting and measuring levels of fluopicolide and its metabolites have been developed and validated in/on all appropriate plant and animal matrices. An analytical method for detecting fluopicolide and BAM in field corn matrices has been submitted with this petition. In addition, an analytical method for detecting P1x and PCA in corn grain (for assessing dietary exposure) has been submitted with this petition. Contact: Dominic Schuler, (703) 347-0260, email address: schuler.dominic@epa.gov.

9. PP 2F8106. (EPA-HQ-OPP-2012-0925). Taminco, Inc., Two Windsor Plaza, Suite 411, Allentown, PA, requests to establish a tolerance in 40 CFR part 180 for residues of the fungicide thiram, in or on strawberry at 20 ppm. Strawberry samples were analyzed according to ALS Laboratory Group method MS 133.02 “The Determination of Mancozeb and/or Other Ethylene-bis-dithiocarbamates (EBDCs) as CS2 in Plant Tissue by GC/MS”. Detection and quantitation for thiram (as CS2) were conducted using a GC equipped with a mass spectral detector (MSD) for determination of CS2. Contact: Shaunta Hill, (703) 347-8961, email address: hill.shaunta@epa.gov.

Amended Tolerances

1. PP 2E8068. (EPA-HQ-OPP-2012-0710). BASF Corporation, 26 Davis Drive, P.O. Box 13528, Research Triangle Park, NC 27709-3528, requests to amend the tolerances in 40 CFR 180.589 by removing tolerances for residues of the fungicide boscalid (BAS 510F); [3-pyridinecarboxamide, 2-chloro-N-(4′-chloro(1,1′-biphenyl)-2-yl)-], in or on bushberry, subgroup 13B at 13 ppm; caneberry, subgroup 13A at 6.0 ppm; canola, seed at 3.5 ppm; cotton, undelinted seed at 1.0 ppm; fruit, citrus, group 10 at 1.6 ppm; fruit, pome, group 11 at 3.0 ppm; grape at 3.5 ppm; strawberry at 4.5 ppm; sunflower, seed at 0.6 ppm; vegetable, bulb, group 3 at 3.0 ppm; vegetable, fruiting, group 8 at 1.2 ppm; and vegetable, root, subgroup 1A except sugarbeet, garden beet, radish, and turnip at 1.0 ppm, upon approval of the tolerances listed under “New Tolerances” for PP 2E8068. Contact: Andrew Ertman, (703) 308-9367, email address: ertman.andrew@epa.gov.

2. PP 2E8069. (EPA-HQ-OPP-2012-0549). Interregional Research Project Number 4 (IR-4), 500 College Road East, Suite 201W, Princeton, NJ 08540, requests to concurrently update the existing crop group tolerances in 40 CFR 180.582 for residues of the fungicide pyraclostrobin, carbamic acid, [2-[[[1-(4-chlorophenyl)-1H-pyrazol-3-yl]oxy]methyl] phenyl]methoxy-, methyl ester and its metabolite methyl-N-[[[1-(4-chlorophenyl) pyrazol-3-yl]oxy]o-tolyl] carbamate (BF 500-3); expressed as parent compound, to vegetable, bulb, group 3-07 at 0.9 ppm; vegetable, fruiting, group 8-10 at 1.4 ppm; fruit, citrus, group 10-10 at 2.0 ppm; fruit, pome, group 11-10 at 1.5 ppm; oilseed, group 20 at 0.45 ppm; caneberry subgroup 13-07A at 4.0 ppm; bushberry subgroup 13-07B at 4.0 ppm; small fruit, vine climbing subgroup (except fuzzy kiwi) 13-07F at 2.0 ppm; and low growing berry subgroup 13-07G at 1.2 ppm, upon approval of the tolerances listed under “New Tolerances” for PP 2E8069.

In addition, the IR-4 requests to concurrently amend 40 CFR 180.582 by removing tolerances for residues of pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound, in or on the raw agricultural commodity berry, group 13 at 4.0 ppm; fruit, citrus, group 10 at 2.0 ppm; fruit, pome, group 11 at 1.5 ppm; grape at 2.0 ppm; strawberry at 1.2 ppm; vegetable, bulb, group 3 at 0.9 ppm; vegetable, fruiting, group 8 at 1.4 ppm; borage, seed at 0.45 ppm; castor oil plant, seed at 0.45 ppm; Chinese tallowtree, seed at 0.45 ppm; crambe, seed at 0.45 ppm; cuphea, seed at 0.45 ppm; echium, seed at 0.45 ppm; euphorbia, seed at 0.45 ppm; evening primrose, seed at 0.45 ppm; flax seed at 0.45 ppm; gold of pleasure, seed at 0.45 ppm; Hare's ear mustard, seed at 0.45 ppm, jojoba, seed at 0.45 ppm; lesquerella, seed at 0.45 ppm, lunaria, seed at 0.45 ppm; meadowfoam, seed at 0.45 ppm; milkweed, seed at 0.45 ppm; mustard, seed at 0.45 ppm; Niger seed, seed at 0.45 ppm; oil radish, seed at 0.45 ppm; poppy, seed at 0.45 ppm; rapeseed, seed at 0.45 ppm; rose hip, seed at 0.45 ppm; safflower, seed at 0.45 ppm; sesame, seed at 0.45 ppm; stokes aster, seed at 0.45 ppm; sunflower, seed at 0.45 ppm; sweet rocket, seed at 0.45 ppm; tallowwood, seed at 0.45 ppm; tea oil plant, seed at 0.45 ppm; and ternonia, seed at 0.45 ppm, upon approval of the tolerances listed under “New Tolerances” for PP 2E8069. In plants, the method of analysis is aqueous organic solvent extraction, column clean up and quantitation by LC/MS/MS. In animals, the method of analysis involves base hydrolysis, organic extraction, column clean up and quantitation by LC/MS/MS or derivatization (methylation) followed by quantitation by GC/MS. Contact: Andrew Ertman, (703) 308-9367, email address: ertman.andrew@epa.gov.

3. PP 2E8117. (EPA-HQ-OPP-2012-0911). Interregional Research Project Number 4 (IR-4), 500 College Road East, Suite 201W, Princeton, NJ 08540, requests to amend the tolerances in 40 CFR 180.588 for residues of the fungicide quinoxyfen, 5,7-dichloro-4-(4-fluorophenoxy)quinoline, by removing the established tolerances in or on grape at 0.60 ppm; strawberry at 0.90 ppm; pepper, bell at 0.35 ppm; and pepper, nonbell at 1.7 ppm, upon approval of the proposed tolerances listed under “New Tolerances” for PP 2E8117. Contact: Sidney Jackson, (703) 305-7610, email address: jackson.sidney@epa.gov.

4. PP 2E8118. (EPA-HQ-OPP-2012-0912). Interregional Research Project Number 4 (IR-4), 500 College Road East, Suite 201 W, Princeton, NJ 08540, requests to amend the tolerances in 40 CFR 180.544 for residues of the insecticide methoxyfenozide, (3-methoxy-2-methylbenzoic acid 2-(3,5-dimethylbenzoyl)-2-(1,1-dimethylethyl) hydrazide) including its metabolites and degradates, upon approval of the proposed tolerances listed under “New Tolerances” for PP 2E8118 in paragraph (a), the petition also requests to amend the tolerances in paragraph (d)(2) from herb and spice, group 19, except coriander, leaves at 4.5 ppm to spice subgroup 19B at 4.5 ppm. In addition, it is proposed that the tolerances for residues of methoxyfenozide in or on pea, dry, seed at 2.5 ppm; bean, dry, seed at 0.24 ppm; coriander, leaves at 30 ppm; grape at 1.0 ppm; strawberry at 1.5 ppm; fruit, pome, group 11 at 1.5 ppm; vegetable, fruiting, group 8 at 2.0 ppm; and okra at 2.0 ppm be removed upon the approval of the proposed tolerances listed under “New Tolerances” for PP 2E8118. Contact: Laura Nollen, (703) 305-7390, email address: nollen.laura@epa.gov.

5. PP 2F8073. (EPA-HQ-OPP-2012-0923). Gowan Company, LLC, P.O. Box 556, Yuma, AZ 85366, requests to amend the regional restriction of tolerances in 40 CFR 180.448 for residues of the insecticide hexythiazox (trans-5-(4-chlorophenyll)-N-cyclohexyl-4-methyl-2-oxothiazolidine-3-carboxamide), in or on cotton, gin byproduct at 3 ppm; and cotton, undelinted seed at 0.2 ppm by including Arizona. A practical analytical method, high pressure liquid chromatography (HPLC) with an ultraviolet (UV) detector, which detects and measures residues of hexythiazox and its metabolites as a common moiety, is available for enforcement purposes with a limit of detection that allows monitoring of food with residues at or above the levels set in these tolerances. Contact: Olga Odiott, (703) 308-9369, email address: odiott.olga@epa.gov.

6. PP 2F8077. (EPA-HQ-OPP-2012-0829). Monsanto Company, 1300 I Street NW., Suite 450 East, Washington DC 20005, (a member of the ARP), requests to delete from 40 CFR 180.470 (d) tolerances for indirect or inadvertent residues of the herbicide acetochlor (2-chloro-2'-methyl-6'-ethyl-N-ethoxymethyl acetanilide) and its metabolites containing either the 2-ethyl-6-methylaniline (EMA) or the 2-(1-hydroxyethyl)-6- methyl-aniline (HEMA) moiety, to be expressed as acetochlor equivalents, in or on beet, sugar, roots at 0.05 ppm, and beet, sugar, tops at 0.05 ppm, upon approval of the proposed tolerances listed under “New Tolerances” for PP 2F8077. Contact: Hope Johnson, (703) 305-5410, email address: johnson.hope@epa.gov.

7. PP 2F8155. (EPA-HQ-OPP-2012-0926). Syngenta Crop Protection, LLC, P.O. Box 18300, Greensboro, NC 27419, requests to amend the tolerances in 40 CFR 180.368 for residues of the herbicide S-metolachlor, in or on corn, field, forage; corn, sweet, forage; and corn, stover at 20, 40 and 40 ppm, respectively. A GC-nitrogen phosphorus detection (GC/NPD) method has been submitted to the Agency for determining residues in/on crop commodities and is published in PAM Vol. II, Method I. A GC/MSD method has been submitted to the Agency for determining residues in livestock commodities and is published in PAM Vol. II, Method II. These methods determine residues of S-metolachlor and its metabolites as either CGA-37913 or CGA-49751 following acid hydrolysis. Contact: Michael Walsh, (703) 308-2972, email address: walsh.michael@epa.gov.

New Tolerance Exemptions

1. PP 2E8091. (EPA-HQ-OPP-2012-0921). DuPont Tate & Lyle BioProducts, LLC, 198 Blair Bend Drive, Loudon, TN 37774, requests to establish an exemption from the requirement of a tolerance for residues of 1,3-propanediol (CAS No. 504-63-2) under 40 CFR 180.910 for pre- and post-harvest uses in pesticide formulations and 40 CFR 180.940 for food contact sanitizing solutions in public eating places, diary-processing equipment, and food-processing equipment and utensils, when used as an inert ingredient as a solvent, co-solvent, diluent, or freeze point depressant. 1,3-Propanediol would be used in or on the raw agricultural commodity and in the food contact sanitizing solution as an inert ingredient without limitation. The petitioner believes no analytical method is needed because it is not required for the establishment of a tolerance exemption for inert ingredients. Contact: David Lieu, (703) 305-0079, email address: lieu.david@epa.gov.

2. PP IN-10520. (EPA-HQ-OPP-2012-0874). Rhodia Inc., c/o SciReg, Inc., 12733 Director's Loop, Woodbridge, VA 22192, requests to establish an exemption from the requirement of a tolerance for residues of dimethyl esters of glutaric acid (CAS No. 1119-40-0), succinic acid (CAS No. 106-65-0), and adipic acid (CAS No. 627-93-0), herein referred to as DME, under 40 CFR 180.910 when used as an inert ingredient in pesticide formulations. Rhodia is requesting that DME be exempt from the requirement of a tolerance under 40 CFR 180.910. Therefore, Rhodia believes that an analytical method to determine residues in treated crops is not relevant. Contact: Deirdre Sunderland, (703) 603-0851, email address: sunderland.deirdre@epa.gov.

3. PP IN-10525. (EPA-HQ-OPP-2012-0901). Ecolab, Inc., 370 N. Wabasha Street, St. Paul, MN 55102, requests to establish an exemption from the requirement of a tolerance for residues of propylene glycol (CAS No. 57-55-6) when used as an inert ingredient in antimicrobial pesticide formulations applied to food-contact surfaces in public eating places, dairy processing equipment and food processing equipment and utensils in accordance with 40 CFR 180.940(a). The petitioner believes no analytical method is needed because it is not required for the establishment of a tolerance exemption for inert ingredients. Contact: Mark Dow, (703) 305-5533, email address: dow.mark@epa.gov.

4. PP IN-10526. (EPA-HQ-OPP-2012-0922). Ecolab, Inc., 370 N. Wabasha Street, St. Paul, MN 55102, requests to establish an exemption from the requirement of a tolerance for residues of sodium bisulfate (CAS No. 7681-38-1) for use as an inert ingredient in antimicrobial pesticide formulations applied to food-contact surfaces in public eating places, dairy processing equipment and food processing equipment and utensils in accordance with 40 CFR 180.940(a). The petitioner believes no analytical method is needed because it is not required for the establishment of a tolerance exemption for inert ingredients. Contact: David Lieu, (703) 305-0079, email address: lieu.david@epa.gov.

5. PP IN-10528. (EPA-HQ-OPP-2012-0945. Ecolab, Inc., 370 N. Wabasha Street, St. Paul, MN 55102, requests to establish an exemption from the requirement of a tolerance for residues of FD&C Yellow No. 5 (Tartrazine) (CAS No. 1934-21-0) under 40 CFR 180.940(a) for use as an inert ingredient in antimicrobial pesticide formulations applied to food-contact surfaces in public eating places, dairy-processing equipment, and food-processing equipment and utensils. The petitioner believes no analytical method is needed because it is not required for the establishment of a tolerance exemption for inert ingredients. Contact: Janet Whitehurst, (703) 305-6129, email address: whitehurst.janet@epa.gov.

List of Subjects in 40 CFR Part 180

Environmental protection, Agricultural commodities, Feed additives, Food additives, Pesticides and pests, Reporting and recordkeeping requirements.

Dated: January 8, 2013.
Lois Rossi,
Director, Registration Division, Office of Pesticide Programs.

[FR Doc. 2013-00714 Filed 1-15-13; 8:45 am]

BILLING CODE 6560-50-P